DEPARTMENT OF ENERGY

Federal Energy Regulatory Commission

[Docket No. PF09-11-001]

TransCanada Alaska Company LLC; Notice of Request for Approval of Plan for Conducting an Open Season

February 1, 2010

Take notice that on January 29, 2010, pursuant to section 157.38 of the Commission's Regulations governing Open Seasons for Alaska Natural Gas Transportation Projects, TransCanada Alaska Company LLC (TC Alaska) filed a Request for Commission Approval of its Plan for Conducting an Open Season. The proposed Open Season is being held to solicit the submission and execution of binding Precedent Agreements for firm natural gas transportation service and optional firm gas treatment service to be provided by TC Alaska's proposed Alaska Pipeline Project, which is more fully described in the filing.

This filing is accessible online at http://www.ferc.gov, using the “eLibrary” link and is available for review in the Commission's Public Reading Room in Washington, DC. There is an “eSubscription” link on the Commission's Web site that enables subscribers to receive e-mail notification when a document is added to a subscribed docket(s). For assistance with any FERC Online service please e-mail FERCOnlineSupport@ferc.gov, or call (866) 208-3676 (toll free). For TTY, call (202) 502-8659.

Please note that the review of TC Alaska's Open Season Plan is being done as part of the pre-filing phase of TC Alaska's Alaska Pipeline Project. Docket No. PF09-11-001 has been reserved for the Open Season Plan and commenters should use the -001 sub-docket for filings regarding the Open Season Plan. The Commission's Web page for eSubscription allows for subscription only to this specific sub-docket, Docket No. PF09-11-001 or, for those interested in the entire pre-filing process to, “Subscribe to root docket and all existing and new sub-dockets.”

TC Canada states that the Alaska Pipeline Project is expected to consist of a FERC-jurisdictional gas treatment plant near Prudhoe Bay, Alaska, which will treat North Slope gas for pipeline transportation, and a FERC-jurisdictional gas transmission pipeline connecting the Point Thomson field in Alaska to the gas treatment plant and, a mainline pipeline from the gas treatment plant to either (1) the Alaska/Canada border for onward delivery to Alberta, Canada; or (2) to Valdez, Alaska for a connection to a third party liquefied natural gas facility.

Pursuant to section 157.38 of the Commission's Regulations, the Commission plans to act on the TC Alaska's Open Season Plan by March 29, 2010. TC Alaska states that if its Open Season Plan is approved by the Commission, its open season will begin on April 30, 2010 and end on July 30, 2010.

Any questions regarding this Request for Approval of TC Alaska's Open Season Plan may be directed to:

Eugene R. Elrod—eelrod@sidley.com, Richard D. Klingler—rklingler@sidley.com, William A. Williams—bill.williams@sidley.com, David J. Lewis—dlewis@sidley.com, SIDLEY AUSTIN LLP, 1501 K Street, NW., Washington, DC 20005, 202-736-8000, 202-736-8711 (fax).

James K. Morse—james.morse@exxonmobil.com, Alaska Pipeline Project—Law Manager, ExxonMobil Development Company, 16945 Northchase Drive, GP4 442, Houston, Texas 77060, 281-654-3346, 262-314-2923 (fax).

Any person desiring to comment on this filing or file a motion to intervene in this phase of the project must file in accordance with the Rule 212 of Commission's Rules of Practice and Procedure. All comments will be considered by the Commission in determining the appropriate action to be taken. In addition to the filing of comments, the Commission will permit the filing of reply comments pursuant to its authority under Rule 213 of the Commission's Rules of Practice and Procedure. The due dates for motions to intervene, comments and reply comments are listed below.

The Commission strongly urges electronic filings of comments and reply comments in lieu of paper using the “eFiling” link at http://www.ferc.gov. Persons unable to file electronically should submit an original and 7 copies of their comments or reply comments to: Federal Energy Regulatory Commission, 888 First Street, NE., Washington, DC 20426. (Label cover letter or first page with case name, TransCanada Alaska Company LLC—Docket No. PF09-11-001).

On January 12, 2010, the FERC Staff held a pre-filing workshop in Anchorage, Alaska on the procedures and process for commenting upon and holding an open season for an Alaska Natural Gas Transportation Project. The FERC Staff intends to repeat that workshop at the Commission offices in Washington, DC on February 11, 2010, and the Commission will issue a separate notice in Docket No. RM05-1-000 to that effect.

Comment Date: February 24, 2010.

Reply Comment Date: March 9, 2010.

Kimberly D. Bose,
Secretary.

[FR Doc. 2010-2624 Filed 2-5-10; 8:45 am]

BILLING CODE 6717-01-P